DEPARTMENT OF TRANSPORTATION

Pipeline and Hazardous Materials Safety Administration

49 CFR Part 195

[Docket No. PHMSA-2015-0173]

Pipeline Safety: Notice of Gas Pipeline Advisory Committee Meeting

AGENCY: Pipeline and Hazardous Materials Safety Administration (PHMSA), DOT.

ACTION: Notice of gas pipeline advisory committee meeting.

SUMMARY: This document announces a public meeting of the Gas Pipeline Advisory Committee (GPAC). The committee will meet to consider and vote on the proposed rule, “Pipeline Safety: Expanding the Use of Excess Flow Valves in Gas Distribution Systems to Applications Other Than Single-Family Residences” published in the Federal Register on July 15, 2015.

DATES: The meeting will be held on Thursday, December 17, 2015, from 1:00 p.m. to 4:00 p.m. EST.

ADDRESSES: The public may attend the meeting at the U.S. Department of Transportation, 1200 New Jersey Avenue SE., Washington, DC 20590. Please register for the meeting or contact the individual listed under FOR FURTHER INFORMATION CONTACT by December 1, 2015.

The GPAC will take part in the meeting by telephone conference call. Attendees should register in advance at https://primis.phmsa.dot.gov/meetings/MtgHome.mtg?mtg=108 and indicate whether you will attend in person or by telephone. PHMSA will post the call-in information and room number on the meeting page and on the PHMSA, Pipeline Safety Advisory Committee Web page: http://www.phmsa.dot.gov/pipeline/regs/technical-advisory-commmeeting about 15 days before the meeting takes place.

Comments on the meeting may be submitted to the docket in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-001.

Hand Delivery: Room W12-140 on the ground level of the DOT West Building, 1200 New Jersey Avenue SE., Washington, DC, between 9 a.m. and 5 p.m., Monday through Friday, except on Federal Holidays.

Instructions: Identify the docket numbers, PHMSA-2011-0009 and PHMSA-2015-0173 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or view the Privacy Notice at http://www.regulations.gov before submitting any such comments.

Docket: For access to the docket or to read background documents or comments, go to http://www.regulations.gov at any time or to Room W12-140 on the ground level of the DOT West Building, 1200 New Jersey Avenue SE., Washington, DC, between 9:00 a.m. and 5:00 p.m., Monday through Friday, except Federal holidays.

If you wish to receive confirmation of receipt of your written comments, please include a self-addressed, stamped postcard with the following statement: “Comments on PHMSA-2011-0009 and PHMSA 2015-0173.” The Docket Clerk will date-stamp the postcard prior to returning it to you via the U.S. mail. Please note that due to delays in the delivery of U.S. mail to Federal offices in Washington, DC, we recommend that persons consider an alternative method (Internet, fax, or professional delivery service) of submitting comments to the docket and ensuring their timely receipt at DOT.

Privacy Act Statement

Anyone may search the electronic form of all comments received for any of our dockets. You may review DOT's complete Privacy Act Statement in the Federal Register published on April 11, 2000, (70 FR 19477) or visit http://dms.dot.gov.

Information on Services for Individuals With Disabilities

For information on facilities or services for individuals with disabilities, or to seek special assistance at the meeting, please contact Cheryl Whetsel at 202-366-4431 by December 1, 2015.

FOR FURTHER INFORMATION CONTACT: For information about the meetings, contact Cheryl Whetsel by phone at 202-366-4431 or by email at cheryl.whetsel@dot.gov or for technical contents about the proposed rule contact Mike Israni by phone at 202-366-4595 or by email at mike.israni@dot.gov.

SUPPLEMENTARY INFORMATION:

I. Meeting Details

Members of the public may attend and make a statement during the advisory committee meetings. For a better chance to speak at the meetings, please contact the individual listed under FOR FURTHER INFORMATION CONTACT by December 1, 2015.

II. Committee Background

The GPAC is a statutorily mandated committee that advises PHMSA on proposed safety standards, risks assessments, and safety policies for natural gas pipelines. The committee falls under the Federal Advisory Committee Act (Pub. L. 92-463, 5 U.S.C. App. 1) and is mandated by the pipeline safety law (49 U.S.C. Chap. 601). The committee consists of 15 members—with membership evenly divided among the federal and state government, the regulated industry, and the public. The committee advises PHMSA on technical feasibility, practicability, and cost-effectiveness of each proposed pipeline safety standard. PHMSA staff may also provide an update on several regulatory and policy initiatives if time allows.

III. Preliminary Agenda

The agenda will include the committee's discussion and vote on the proposed rule, “Pipeline Safety: Expanding the Use of Excess Flow Valves in Gas Distribution Systems to Applications Other Than Single-Family Residences” published in the Federal Register on July 15, 2015 (80 FR 41460) and on the associated regulatory analysis and environmental assessment.

The NPRM proposes to expand requirements for the use of excess flow valves beyond certain single-family homes to include additional homes and small commercial natural gas customers. Further, the NPRM proposes that manual service line shut-off valves (e.g., curb valves) be installed on new or replaced service lines servicing customers that use large quantities of natural gas, such as industrial facilities. Excess flow valves or curb valves are used in natural gas distribution pipelines to restrict the flow of gas if a line is broken or damaged, limiting the impact of a leak or explosion.” An informational presentation on EFVs was given to the advisory committee at a meeting held on August 26, 2015. The presentation (day 2, agenda item 8b) may be found on the Web site: http://www.phmsa.dot.gov/pipeline/regs/technical-advisory-comm/meeting/august-25-and-26-2015-joint-meeting-gas-and-liquid.

Issued in Washington, DC, on November 23, 2015, under authority delegated in 49 CFR 1.97.
Alan K. Mayberry,
Deputy Associate Administrator for Policy and Programs.

[FR Doc. 2015-30208 Filed 11-27-15; 8:45 am]

BILLING CODE 4910-60-P